DEPARTMENT OF COMMERCE

International Trade Administration

[A-552-823]

Laminated Woven Sacks From the Socialist Republic of Vietnam: Final Results of Expedited First Sunset Review of the Antidumping Duty Order

AGENCY: Enforcement and Compliance, International Trade Administration, Department of Commerce.

SUMMARY: As a result of this expedited sunset review, the U.S. Department of Commerce (Commerce) finds that revocation of the antidumping duty (AD) order on Laminated Woven Sacks (LWS) from the Socialist Republic of Vietnam (Vietnam) would likely lead to continuation or recurrence of dumping at the levels indicated in the “Final Results of the Sunset Review” section of this notice.

DATES: Applicable December 11, 2024.

FOR FURTHER INFORMATION CONTACT: Luke Caruso, AD/CVD Operations, Office IV, Enforcement and Compliance, International Trade Administration, U.S. Department of Commerce, 1401 Constitution Avenue NW, Washington, DC 20230; telephone: (202) 482-2081.

SUPPLEMENTARY INFORMATION:

Background

After Commerce initiated the sunset review ¹ of the Order,² pursuant to section 751(c) of the Tariff Act of 1930, as amended (the Act), domestic interested parties ³ timely submitted complete notices of intent to participate in,⁴ and adequate substantive responses regarding, the review.⁵ The domestic interested parties claimed domestic interested party status under section 771(9)(C) of the Act as producers of the domestic like product in the United States.⁶ Commerce did not receive a substantive response from any respondent interested party, nor was a hearing requested. On June 21, 2024, Commerce notified the U.S. International Trade Commission that it did not receive adequate substantive responses from respondent interested parties.⁷ As a result, pursuant to section 751(c)(3)(B) of the Act and 19 CFR 351.218(e)(1)(ii)(C)(2), Commerce conducted an expedited (120-day) sunset review of the Order.

¹ See Initiation of Five-Year (Sunset) Reviews, 89 FR 35073 (May 1, 2024).

² See Laminated Woven Sacks from the Socialist Republic of Vietnam: Antidumping Duty and Countervailing Duty Orders, 84 FR 753 (June 4, 2019) (Order).

³ The domestic interested parties are Polytex Fiber LLC and ProAmpac Holdings Inc.

⁴ See Domestic Interested Parties' Letter, “Domestic Interested Party Notice Of Intent To Participate,” dated May 10, 2024.

⁵ See Domestic Interested Parties' Letter, “Domestic Interested Party Substantive Response,” dated May 30, 2024 (Substantive Response).

⁶ Id.

⁷ See Commerce's Letter, “Sunset Reviews initiated on May 1, 2023,” dated June 21, 2024.

Scope of the Order

The merchandise covered by the Order is laminated woven sacks.. For a complete description of the scope of the Order, see the Issues and Decision Memorandum.⁸

⁸ See Memorandum, “Decision Memorandum for the Final Results of the First Expedited Sunset Review of the Antidumping Duty Order on Laminated Woven Sacks from the Socialist Republic of Vietnam,” dated concurrently with, and hereby adopted by, this notice (Issues and Decision Memorandum).

Analysis of Comments Received

A complete discussion of all issues raised in this sunset review is contained in the accompanying Issues and Decision Memorandum.⁹ A list of topics discussed in the Issues and Decision Memorandum is included as an appendix to this notice. The Issues and Decision Memorandum is a public document and is on file electronically via Enforcement and Compliance's Antidumping and Countervailing Duty Centralized Electronic Service System (ACCESS). ACCESS is available to registered users at https://access.trade.gov. In addition, a complete version of the Issues and Decision Memorandum can be directly accessed at https://access.trade.gov/public/FRNoticesListLayout.aspx.

⁹ Id.

Final Results of Sunset Review

Pursuant to sections 751(c)(1) and 752(c)(1) and (3) of the Act, Commerce determines that revocation of the Order would likely lead to continuation or recurrence of dumping, and that the magnitude of the dumping margins likely to prevail are weighted-average margins up to a weighted-average margin of up to 292.61 percent.

Administrative Protective Order

This notice serves as the only reminder to parties subject to an administrative protective order (APO) of their responsibility concerning the return or destruction of proprietary information disclosed under APO in accordance with 19 CFR 351.305(a). Timely notification of the return or destruction of APO materials or conversion to judicial protective order, is hereby requested. Failure to comply with the regulations and terms of an APO is a violation which is subject to sanction.

Notification to Interested Parties

We are issuing and publishing these final results of sunset review in accordance with sections 751(c), 752(c), and 777(i)(1) of the Act, and 19 CFR 351.218(e)(1)(ii)(C)(2) and 19 CFR 351.221(c)(5)(ii).

Dated: September 5, 2024.
Abdelali Elouaradia,
Deputy Assistant Secretary for Enforcement and Compliance.

Editorial Note: This document was received for publication by the Office of the Federal Register on December 6, 2024.

Appendix

List of Topics Discussed in the Issues and Decision Memorandum

I. Summary

II. Background

III. Scope of the Order

IV. History of the Order

V. Legal Framework

VI. Discussion of the Issues

1. Likelihood of Continuation or Recurrence of Dumping

2. Magnitude of the Margins of Dumping Likely to Prevail

VII. Final Results of Sunset Review

VIII. Recommendation

[FR Doc. 2024-29054 Filed 12-10-24; 8:45 am]

BILLING CODE 3510-DS-P